DEPARTMENT OF COMMERCE

International Trade Administration

[C-570-911]

Circular Welded Carbon Quality Steel Pipe From the People's Republic of China: Rescission of Countervailing Duty Administrative Review; 2016

AGENCY: Enforcement and Compliance, International Trade Administration, Department of Commerce.

SUMMARY: The Department of Commerce (the Department) is rescinding the administrative review of the countervailing duty (CVD) order on circular welded carbon quality steel pipe (CWP) from the People's Republic of China (PRC) for the period January 1, 2016, through December 31, 2016, based on the timely withdrawal of the request for review.

DATES: Applicable October 19, 2017.

FOR FURTHER INFORMATION CONTACT: Terre Keaton Stefanova, AD/CVD Operations, Office II, Enforcement and Compliance, International Trade Administration, U.S. Department of Commerce, 1401 Constitution Avenue NW., Washington, DC 20230; telephone: (202) 482-1280.

Background

On July 3, 2017, the Department published in the Federal Register a notice of opportunity to request an administrative review of the CVD order on CWP from the PRC for the period January 1, 2016, through December 31, 2016.¹ On July 31, 2017, the Department received a timely request from Zekelman Industries (the petitioner) to conduct an administrative review of this CVD order.² Pursuant to this request and in accordance with section 751(a) of the Tariff Act of 1930, as amended (the Act), on September 13, 2017, the Department published in the Federal Register a notice of initiation of an administrative review of the CVD order on CWP covering the period of January 1, 2016, through December 31, 2016, with respect to 20 individually-named companies.³ No other party requested an administrative review. On September 29, 2017, the petitioner withdrew its request for an administrative review.⁴

¹ See Antidumping or Countervailing Duty Order, Finding, or Suspended Investigation: Opportunity to Request Administrative Review, 82 FR 30833 (July 3, 2017).

² See Letter from the petitioner, “Circular Welded Carbon Quality Steel Pipe from the People's Republic of China: Request for Administrative Review,” dated July 31, 2017.

³ See Initiation of Antidumping and Countervailing Duty Administrative Reviews, 82 FR 42974 (September 13, 2017).

⁴ See Letter from the petitioner, “Circular Welded Carbon Quality Steel Pipe from the People's Republic of China: Withdrawal of Request for Administrative Review,” dated September 29, 2017.

Rescission of Administrative Review

Pursuant to 19 CFR 351.213(d)(1), the Secretary will rescind an administrative review, in whole or in part, if a party who requested the review withdraws the request within 90 days of the date of publication of notice of initiation of the requested review. The petitioner timely withdrew its request for an administrative review by the 90-day deadline. No other parties requested an administrative review of the order. Therefore, in accordance with 19 CFR 351.213(d)(1), we are rescinding the administrative review of the CVD order on CWP from the PRC covering the period January 1, 2016, through December 31, 2016.

Assessment

The Department will instruct U.S. Customs and Border Protection (CBP) to assess countervailing duties on all appropriate entries at rates equal to the cash deposit of estimated countervailing duties required at the time of entry, or withdrawal from warehouse, for consumption, in accordance with 19 CFR 351.212(c)(1)(i). The Department intends to issue appropriate assessment instructions to CBP 15 days after publication of this notice in the Federal Register.

Notification Regarding Administrative Protection Order

This notice serves as a reminder to parties subject to administrative protective order (APO) of their responsibility concerning the return or destruction of proprietary information disclosed under APO, in accordance with 19 CFR 351.305(a)(3). Timely written notification of the return or destruction of APO materials or the conversion to judicial protective order is hereby requested. Failure to comply with the regulations and the terms of an APO is a sanctionable violation.

This notice is issued and published in accordance with sections 751 of the Act, and 19 CFR 351.213(d)(4).

Dated: October 13, 2017.
Gary Taverman,
Deputy Assistant Secretary for Antidumping and Countervailing Duty Operations, performing the non-exclusive functions and duties of the Assistant Secretary for Enforcement and Compliance.

[FR Doc. 2017-22685 Filed 10-18-17; 8:45 am]

BILLING CODE 3510-DS-P